DEPARTMENT OF AGRICULTURE

Forest Service

National Urban and Community Forestry Advisory Council

AGENCY: Forest Service, USDA.

ACTION: Notice of meeting.

SUMMARY: The National Urban and Community Forestry Advisory Council (Council) will hold a public meeting according to the details shown below. The committee is authorized under the Cooperative Forestry Assistance Act, Section 9 (the Act) and operates in compliance with the Federal Advisory Committee Act (FACA). The purpose of the committee is to develop a national urban and community forestry ten-year action plan in accordance with Section (9)(g)(3)(A-F) of the Act, evaluate and report annually on the implementation of that plan to the Secretary, and develop criteria for and submit recommendations to the Forest Service's National Urban and Community Forestry Challenge Cost-share Grant Program as required by Section (9)(f)(1-2) of the Act.

DATES: An in person and virtual meeting will be held on September 8, 2025, at 1:00 p.m.-4:00 p.m., Eastern Daylight Time.

Written and Oral Comments: Anyone wishing to provide in-person or virtual oral comments must pre-register by 11:59 p.m. Eastern Daylight Time on August, 29, 2025. Written public comments will be accepted by 11:59 p.m. Eastern Daylight Time on August, 29, 2025. Comments submitted after this date will be provided to the Agency, but the Committee may not have adequate time to consider those comments prior to the meeting.

All National Urban and Community Forestry Advisory Council meetings are subject to cancellation. For status of the meeting prior to attendance, please contact the person listed under FOR FURTHER INFORMATION CONTACT.

ADDRESSES: This meeting will be at held at University of Tennessee, 401 Agriculture & Natural Resources Building, 2431 Joe Johnson Drive, Knoxville, TN 37996-4563 and virtually via telephone and/or video conference. Members of the public may participate in the meeting by joining virtually via videoconference at: Microsoft Teams/Meeting ID: 255 609 267 394 1, Passcode: D3MV23rm or Dial in by phone +1 (202) 650-0123, United States, Washington; Phone conference ID: 841855659#. Council information and meeting details can be found at the following website https://www.fs.usda.gov/managing-land/urban-forests/ucf or by contacting the person listed under FOR FURTHER INFORMATION CONTACT.

Written Comments: Written comments must be sent by email to nancy.stremple@usda.gov or via mail (postmarked) to Nancy Stremple, 201 Fourteenth Street, South West, Sidney Yates Building 3SC-01B, Washington, DC 20024. The Forest Service strongly prefers comments to be submitted electronically.

Oral Comments: Persons or organizations wishing to make oral comments must pre-register by 11:59 Eastern Daylight Time, August, 29, 2025, and speakers can only register for one speaking slot. Oral comments must be sent by email to to nancy.stremple@usda.gov or via mail (postmarked) to Nancy Stremple, 201 Fourteenth Street, South West, Sidney Yates Building 3NW-03G, Washington, DC 20024.

FOR FURTHER INFORMATION CONTACT: Nancy Stremple, Designated Federal Officer (DFO), by email at nancy.stremple@usda.gov.

SUPPLEMENTARY INFORMATION: The purpose of the meeting is to:

1. Add, remove, or edit the agenda items, as needed:

2. Introduction of National Urban and Community Forestry Council members and guests;

3. Discuss next National Ten-Year Action Plan (2027-2037) process;

4. Forest Service Updates;

5. Review past action items;

6. Accomplishment/Recommendation Report preparation;

7. Other;

8. Public input;

9. Next meeting/close.

Please contact the person listed under FOR FURTHER INFORMATION CONTACT, by or before the deadline, for all questions related to the meeting. All comments, including names and addresses when provided, are placed in the record and are available for public inspection and copying. The public may inspect comments received upon request.

Meeting Accommodations: If you are a person requiring reasonable accommodation, please make a request in advance for sign language interpreting, assistive listening devices, or other reasonable accommodation. For access to proceedings, please contact the person listed in the section titled FOR FURTHER INFORMATION CONTACT. All reasonable accommodation requests are managed on a case-by-case basis.

Equal opportunity practices, in accordance with USDA policies, will be followed in all membership appointments to the Committee.

In accordance with Federal civil rights law and U.S. Department of Agriculture (USDA) civil rights regulations and policies, the USDA, its Agencies, offices, employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

(below section completed by CMO)

Dated: August 19, 2025.
Cikena Reid,
USDA Committee Management Officer.

[FR Doc. 2025-16087 Filed 8-21-25; 8:45 am]

BILLING CODE 3411-15-P